DEPARTMENT OF COMMERCE

Foreign-Trade Zones Board

[S-210-2022]

Foreign-Trade Zone 196—Fort Worth, Texas; Application for Expansion of Subzone 196A; TTI, Inc.; Fort Worth, Texas

An application has been submitted to the Foreign-Trade Zones (FTZ) Board by the Alliance Corridor, Inc., grantee of FTZ 196, requesting an expansion of Subzone 196A on behalf of TTI, Inc. The application was submitted pursuant to the provisions of the Foreign-Trade Zones Act, as amended (19 U.S.C. 81a-81u), and the regulations of the FTZ Board (15 CFR part 400). It was formally docketed on November 30, 2022.

Subzone 196A currently consists of the following sites: Site 1 (13 acres)—2701 Sylvania Cross Drive, Fort Worth; Site 2 (14.419 acres)—2441 Northeast Parkway, Fort Worth; Site 5 (45.843 acres)—3737 Meacham Boulevard, Fort Worth; and, Site 6 (3.6 acres)—5050 Mark IV Parkway, Fort Worth.

The applicant is requesting authority to expand the subzone to include an additional site: Proposed Site 7 (17.96 acres)—4501 North Freeway, Fort Worth. The existing subzone and the proposed site would be subject to the existing activation limit of FTZ 196. No additional authorization for production activity has been requested at this time.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is January 17, 2023. Rebuttal comments in response to material submitted during the foregoing period may be submitted during the subsequent 15-day period to January 30, 2023.

A copy of the application will be available for public inspection in the “Online FTZ Information Section” section of the FTZ Board's website, which is accessible via www.trade.gov/ftz.

For further information, contact Camille Evans at Camille.Evans@trade.gov.

Dated: November 30, 2022.
Andrew McGilvray,
Executive Secretary.

[FR Doc. 2022-26366 Filed 12-2-22; 8:45 am]

BILLING CODE 3510-DS-P